SMALL BUSINESS ADMINISTRATION

[Declaration of Disaster #3367]

State of Florida

DeSoto, Flagler, Putnam and Sarasota Counties and the contiguous counties of Alachua, Bradford, Charlotte, Clay, Glades, Hardee, Highlands, Manatee, Marion, St. Johns and Volusia in the State of Florida constitute a disaster area due to damages from heavy rainfall, winds and severe flooding caused by Tropical Storm Gabrielle, which made landfall on September 14, 2001. Applications for loans for physical damage may be filed until the close of business on November 30, 2001 and for economic injury until the close of business on July 1, 2002 at the address listed below or other locally announced locations: U.S. Small Business Administration, Disaster Area 2 Office, One Baltimore Place, Suite 300, Atlanta, GA 30308.

The interest rates are:

| Percent
For Physical Damage:
Homeowners With Credit Available Elsewhere | 6.750
Homeowners Without Credit Available Elsewhere | 3.375
Businesses With Credit Available Elsewhere | 8.000
Businesses and Non-Profit Organizations Without Credit Available Elsewhere | 4.000
Others (Including Non-Profit Organizations) With Credit Available Elsewhere | 7.125
For Economic Injury:
Businesses and Small Agricultural Cooperatives Without Credit Available Elsewhere | 4.000

The number assigned to this disaster for physical damage is 336711 and for economic injury the number assigned is 9M9000.

(Catalog of Federal Domestic Assistance Program Nos. 59002 and 59008.)
Dated: October 1, 2001.
Hector V. Barreto,
Administrator.

[FR Doc. 01-25337 Filed 10-9-01; 8:45 am]

BILLING CODE 8025-01-P